DEPARTMENT OF AGRICULTURE

Forest Service

Notice of New Fee Sites; Federal Lands Recreation Enhancement Act (Title VIII, Pub. L. 108-447)

AGENCY: Caribou-Targhee National Forest, USDA Forest Service.

ACTION: Notice of new fee sites.

SUMMARY: The Soda Springs Ranger District of the Caribou-Targhee National Forest will begin charging a $8.00 fee for overnight camping at the Pine Bar and Mill Canyon Campgrounds on the Soda Springs Ranger District. There will also be a $2.00 fee for an extra vehicle. Overnight camping at other campgrounds on the Caribou-Targhee National Forest has shown that the public appreciates and enjoys the availability of developed recreation campground facilities. Funds from the use of these developed campground facilities will be used for the continued operation and maintenance of Pine Bar and Mill Canyon Campgrounds.

DATES: Pine Bar and Mill Canyon Campgrounds will become available for use May 25, 2009.

ADDRESSES: Forest Supervisor, Caribou-Targhee National Forest, 1405 Hollipark Dr., Idaho Falls, Idaho 83401.

FOR FURTHER INFORMATION CONTACT: Maury Young, Recreation Technician, 208-847-8953, or Bart Andreasen, Recreation Fee Coordinator, 208-624-1165.

SUPPLEMENTARY INFORMATION: The Federal Recreation Lands Enhancement Act (Title VII, Pub. L. 108-447) directed the Secretary of Agriculture to publish a six month advance notice in the Federal Register whenever new recreation fee areas are established. The Caribou-Targhee National Forest currently has 41 other developed campgrounds. These campgrounds are well used and are very popular during the summer and fall seasons. A business analysis of these two campgrounds has shown that people desire having this sort of developed recreation experience in the Caribou-Targhee National Forest. A market analysis indicates that the $8.00 per night fee is both reasonable and acceptable for this sort of recreation experience.

Date: June 6, 2008.
Larry Timchak,
Caribou-Targhee National Forest Supervisor.

[FR Doc. E8-13188 Filed 6-11-08; 8:45 am]

BILLING CODE 3410-11-P